FEDERAL MARITIME COMMISSION

[Docket No. 24-18]

ACCESS ONE TRANSPORT, INC., Complainant v. CMA CGM S.A., Respondent; Notice of Filing of Complaint and Assignment

Served: April 26, 2024.

Notice is given that a complaint has been filed with the Federal Maritime Commission (the “Commission”) by Access One Transport, Inc. (the “Complainant”) against CMA CGM S.A. (the “Respondent”). Complainant states that the Commission has subject matter jurisdiction over the complaint pursuant to the Shipping Act of 1984, as amended, 46 U.S.C. 40101 et seq. and personal jurisdiction over the Respondent as an ocean common carrier, as defined in 46 U.S.C. 40102(7) and (18).

Complainant is a corporation with a place of business in Gardena, California that operates as a licensed motor carrier.

Complainant identifies Respondent as a corporation organized under the laws of France with a corporate headquarters in Marseille, France who does business in the United States through CMA CGM (America) LLC, with its principal place of business in Norfolk, Virginia.

Complainant alleges that Respondent violated 46 U.S.C. 41102(c), 41104(a)(3) and 41104(a)(8). Complainant alleges these violations arose from acts or omissions of the Respondent that rendered Complainant unable to return empty containers within the allowable free time, including the imposition of dual transaction restrictions and return limits, and the unavailability of appointments. Complainant also alleges these violations caused various damages to the Complainant, including detention charges, chassis charges, storage costs, stop off charges, and re-delivery charges.

An answer to the complaint must be filed with the Commission within 25 days after the date of service.

The full text of the complaint can be found in the Commission's electronic Reading Room at https://www2.fmc.gov/readingroom/proceeding/24-18/. This proceeding has been assigned to the Office of Administrative Law Judges. The initial decision of the presiding judge shall be issued by April 28, 2025, and the final decision of the Commission shall be issued by November 11, 2025.

David Eng,
Secretary.

[FR Doc. 2024-09416 Filed 4-30-24; 8:45 am]

BILLING CODE 6730-02-P